DEPARTMENT OF AGRICULTURE

Rural Utilities Service

Minnkota Power Cooperative, Inc.: Bemidji to Grand Rapids 230 kV Transmission Line Project

AGENCY: Rural Utilities Service, USDA.

ACTION: Notice of availability of Record of Decision.

SUMMARY: The Rural Utilities Service, hereinafter referred to as RUS and/or the Agency, has issued a Record of Decision (ROD) for the Environmental Impact Statement (EIS) for the proposed Bemidji to Grand Rapids 230 kV Transmission Line Project (Project) in Beltrami, Hubbard, Itasca, and Cass counties, Minnesota. The Administrator of RUS has signed the ROD, which is effective upon signing. The RUS, U.S. Forest Service Chippewa National Forest (CNF), U.S. Army Corps of Engineers (USACE), and Leech Lake Band of Ojibwe Division of Resource Management (LLBO DRM) cooperated in the development of a Final Environmental Impact Statement (Final EIS) prepared pursuant to the National Environmental Policy Act of 1969 (NEPA) (U.S.C. 4231 et seq.) and in accordance with the Council on Environmental Quality's (CEQ) regulations for implementing the procedural provisions of NEPA (40 CFR Parts 1500-1508), and RUS's NEPA implementing regulations (7 CFR Part 1794). RUS is the lead federal agency as defined at 40 CFR 1501.5, and CNF and USACE are cooperating agencies. LLBO DRM accepted an invitation to participate as a cooperating agency. As the lead federal agency, and as part of its broad environmental review process, RUS must take into account the effect of the proposal on historic properties in accordance with Section 106 of the National Historic Preservation Act (16 U.S.C 470f) and its implementing regulation “Protection of Historic Properties” (36 CFR Part 800). The Final EIS evaluated the potential environmental impacts of and alternatives to the Project proposed by Minnkota Power Cooperative, Inc. (Minnkota) for RUS financing to construct the 230 kilovolt (kV) transmission line between the Wilton Substation near Bemidji, Minnesota and the Boswell Substation near Grand Rapids, Minnesota. The Project is being jointly developed by Minnkota, Otter Tail Power Company, and Minnesota Power (The Utilities).

ADDRESSES: To obtain copies of the ROD, or for further information, contact: Ms. Stephanie Strength, Environmental Protection Specialist, USDA, Rural Utilities Service, 1400 Independence Avenue, SW., Stop 1571, Room 2244-S, Washington, DC 20250-1571, telephone: (970) 403-3559, fax: (202) 690-0649, or e-mail: Stephanie.strength@wdc.usda.gov. A copy of the ROD can be viewed online at: http://www.usda.gov/rus/water/ees/eis.htm.

SUPPLEMENTARY INFORMATION: Minnkota's proposed Project is to construct a 230 kilovolt (kV) transmission line between the Wilton Substation near Bemidji, Minnesota and the Boswell Substation near Grand Rapids, Minnesota, which will cross portions of Beltrami, Hubbard, Itasca, and Cass counties. The Project involves modifying the Wilton and Boswell substations, constructing a new 115 kV breaker station at Nary Junction, Minnesota, and depending on the route alternative selected, upgrading the existing or constructing a new substation in the Cass Lake, Minnesota area. The purpose of the Project is for the Applicants to meet projected future electric demand and to maintain electric transmission reliability standards in accordance with the requirements of the North American Electric Reliability Corporation (NERC). The Project as proposed provides increased voltage support not only to the Bemidji to Grand Rapids area, including the Leech Lake Reservation, but is also required to improve the regional transmission reliability throughout the Red River Valley and north central Minnesota. Refer to Final EIS, pp. 2-3, and the Alternative Evaluation Study, Section 1.2, for additional detail.

In accordance with NEPA, the CEQ regulations for implementing the procedural provisions of NEPA, and applicable agency NEPA implementing regulations, RUS, CNF, USACE, and LLBO DRM cooperated in the development of a Final EIS to assess the potential environmental impacts associated with the proposed Project. The decision being documented in RUS's ROD is that the Agency agrees to consider, subject to loan approval, funding the proposed Project (Route Alternative 4). Because of the distinct federal actions being proposed, RUS, USACE and CNF decided to issue separate RODs. LLBO DRM's decision will be through a Tribal Resolution.

On July 18, 2008, RUS published in the Federal Register at 73 FR 41312 a Notice of Intent to prepare an EIS for the proposed Project. On March 3, 2010, RUS published its Notice of Availability (NOA) of the Draft EIS for the proposed Project in the Federal Register at 75 FR 9573. The U.S. Environmental Protection Agency acknowledged receipt of the Draft EIS on March 5, 2010, from RUS. The 45-day comment period ended on April 19, 2010. All comments on the Draft EIS have been entered into the administrative record, responses are included in the Final EIS, and the Final EIS was modified as appropriate. RUS published its NOA of the Final EIS for the proposed Project in the Federal Register on September 15, 2010 at 75 FR 56051. The U.S. Environmental Protection Agency acknowledged receipt of the Final EIS on September 17, 2010, from RUS. The 30-day waiting period ended on October 18, 2010. One comment was received and is addressed in RUS's ROD.

After considering various ways to meet these future needs, Minnkota identified construction of the proposed Project (Route Alternative 4) as its best course of action.

The Final EIS considered 11 alternatives to meet the Project need, including five alternative route locations. These alternatives were evaluated in terms of cost-effectiveness, technical feasibility, and environmental factors (e.g., soils, topography and geology, water resources, air quality, biological resources, the acoustic environment, recreation, cultural and historic resources, visual resources, transportation, farmland, land use, human health and safety, the socioeconomic environment, environmental justice, and cumulative effects).

The Final EIS analyzes in detail the No Action Alternative and Route Alternatives 1, 2, 3, and 4. See ROD Section IV.b. “Alternatives Not Selected and RUS' Rational” for the rationale for eliminating the alternatives. The resources or environmental factors that could be affected by the proposed Project were evaluated in detail in the Final EIS. These issues are summarized in EIS Table ES-2: “Comparative Impacts of Route Alternatives.”

Based on an evaluation of the information and impact analyses presented in the EIS, including the evaluation of all alternatives, and in consideration of the Agency's NEPA implementing regulations, Environmental Policies and Procedures, as amended (7 CFR Part 1794), RUS finds that the evaluation of reasonable alternatives is consistent with NEPA. The Agency has selected the Route Alternative 4 as its preferred alternative.

Because the proposed Project may involve action in floodplains or wetlands, this Notice also serves as a final notice of action in floodplains and wetlands (in accordance with Executive Orders 11988 and 11990). This Notice concludes RUS's compliance with NEPA and the Agency's “Environmental Policies and Procedures.”

Dated: November 23, 2010.
Jonathan Adelstein,
Administrator, Rural Utilities Service.

[FR Doc. 2010-30298 Filed 12-1-10; 8:45 am]

BILLING CODE 3410-15-P